DEPARTMENT OF COMMERCE

National Oceanic and Atmospheric Administration

[I.D. 032207C]

Endangered and Threatened Species; Take of Anadromous Fish

AGENCY: National Marine Fisheries Service (NOAA Fisheries), National Oceanic and Atmospheric Administration (NOAA), Commerce.

ACTION: Receipt of applications for scientific research/enhancement permit; request for comment.

SUMMARY: Notice is hereby given that NMFS has received an application for a permit from Zachary Larson, Crescent City, CA (Permit 1606). This permit would affect Southern Oregon/Northern California Coast (SONCC) coho salmon (Oncorhynchus kisutch). This document serves to notify the public of the availability of the permit application for review and comment before a final approval or disapproval is made by NMFS.

DATES: Written comments on the permit application must be received at the appropriate address or fax number (see ADDRESSES) no later than 5 p.m. Daylight Savings Time on April 27, 2007.

ADDRESSES: Written comments on this renewal and modification request should be sent to the appropriate office as indicated below. Comments may also be sent via fax to the number indicated for the request. Comments will not be accepted if submitted via e-mail or the internet. The applications and related documents are available for review in the indicated office, by appointment: John Clancy, Protected Species Division, NOAA Fisheries, 1655 Heindon Road, Arcata, CA 95521 (ph: 707-825-5175, fax: 707-825-4840).

FOR FURTHER INFORMATION CONTACT: John Clancy at phone number (707-825-5175), or e-mail: john.clancy@noaa.gov

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following threatened salmonid ESUs: Southern Oregon/Northern California Coast (SONCC) coho salmon (Oncorhynchus kisutch).

Permit Requests Received

Permit 1606

Zachary Larson has requested a Permit (#1606) for take of SONCC coho salmon associated with two studies. Study 1 would investigate juvenile salmonid presence, habitat use and timing in Smith River estuary throughout the year. Proposed capture methods are by beach seining, electrofishing (infrequent), snorkeling, baited minnow traps, and fence traps with provision for upstream-downstream movements. Study 2 would install a downstream migrant trap to be fished 4 days per week to document anadromous fish species use and abundance in Cedar Creek (tributary to the Smith River) before and after a barrier culvert is removed. Permit 1606 will expire August, 2011.

Dated: March 22, 2007.
Angela Somma,
Chief, Endangered Species Division, Office of Protected Resources, National Marine Fisheries Service.

[FR Doc. E7-5679 Filed 3-27-07; 8:45 am]

BILLING CODE 3510-22-S